DEPARTMENT OF ENERGY

Privacy Act of 1974; Establishment of a New System of Records

AGENCY: Department of Energy.

ACTION: Notice.

SUMMARY: The Department of Energy (DOE) is publishing a notice of system of records, DOE-63, “Personal Identity Verification (PIV) Files.” The system is created for the secure storage of information from and about applicants for a DOE PIV credential (security badge) that is issued in compliance with Homeland Security Presidential Directive (HSPD) 12, Policy for a Common Identification Standard for Federal Employees and Contractors. The PIV information will include the PIV credential request from the applicant's sponsor, applicant's background investigation application form or verification of applicant's previous Federal suitability or access eligibility determination, copies of applicant's fingerprints, photograph, and identification documents, and investigative, adjudication, appeal, and reciprocity documentation.

DATES: The proposed new system of records will become effective without further notice, on April 20, 2007, unless in advance of that date, DOE receives adverse comments and determines that this record should not become effective on that date.

ADDRESSES: Written comments should be directed to the following address: Director, Office of Policy; HS-71/Germantown Building; U.S. Department of Energy; 1000 Independence Avenue, SW.; Washington, DC 20585-1290.

FOR FURTHER INFORMATION CONTACT: Abel Lopez, Director; Freedom of Information Act and Privacy Act Group, MA-74/Forrestal Building, U.S. Department of Energy, 1000 Independence Avenue, SW., Washington, DC 20585, 202-586-5955; or Jack Cowden, Director, Office of Health, Safety and Security, HS-71/Germantown Building, U.S. Department of Energy, 1000 Independence Avenue, SW., Washington, DC 20585-1290, 301-903-4291; or Frederick Catoe, Office of the Chief Information Officer, IM-32/Forrestal Building, U.S. Department of Energy, 1000 Independence Avenue, SW., Washington, DC 20585, 202-586-1090; or Isiah Smith, Office of the General Counsel, GC-77/Forrestal Building, U.S. Department of Energy, 1000 Independence Avenue, SW., Washington, DC 20585, 202-586-8618.

SUPPLEMENTARY INFORMATION: As required by the Privacy Act of 1974 [Title 5, United States Code (USC), Section 552a], and Office of Management and Budget (OMB) Circular A-130, “Management of Federal Information Resources,” DOE is publishing this notice of a new system of records pertaining to the personal identity verification (PIV) of those applying for PIV credentials that meet the Federal agency identity credential requirements.

On August 27, 2004, the President signed HSPD-12, Policy for a Common Identification Standard for Federal Employees and Contractors. This Directive established a Government-wide policy that mandated secure and reliable forms of identification to be issued by the Federal Government to its employees and its contractor employees. To implement this policy, Federal Information Processing Standards Publication 201 (FIPS Pub 201), Personal Identity Verification (PIV) of Federal Employees and Contractors, was issued in March 2006, and defined a reliable Government-wide PIV system for use in controlling access to Federal facilities. OMB subsequently clarified implementation of HSPD-12 and FIPS Pub 201 in OMB Memo 05-24, Implementation of Homeland Security Presidential Directive (HSPD) 12—Policy for a Common Identification Standard for Federal Employees and Contractors, August 5, 2005. On November 22, 2005, DOE issued DOE Notice 206.3, Personal Identity Verification, which provides specific direction to DOE elements for implementing the requirements of HSPD-12 and FIPS Pub 201.

PIV information and records collected to determine eligibility for the PIV credential will be maintained in DOE-63 and will be retrieved by the applicant's name or a unique number associated with the applicant. The PIV information includes the applicant's name, Social Security number, date of birth, place of birth, signature, status as Federal or contractor employee or prospective employee, and sponsor's or employer's name, address, and telephone number. The records are the PIV credential request submitted by the applicant's sponsor and may include any of the following: copies of identity source documents; data from source documents used to positively identify the individual; copies of applicant's photograph; copies of the applicant's background investigation forms [e.g., Standard Form 85 (SF 85), Questionnaire for Non-Sensitive Positions; SF 85P, Questionnaire for Public Trust Positions; SF 86, Questionnaire for National Security Positions; SF 87, Fingerprint Chart; FD-258, Fingerprint Card; Optional Form 306 (OF 306), Declaration for Federal Employment; SF 171, Application for Federal Employment; OF 612, Optional Application for Federal Employment]; a resume´ or similar document; background investigation reports; adjudication documents; verification of previous adjudication decision by DOE or another Federal agency; disposition of applicant's PIV processing; correspondence and related documents to and from other Federal agencies for reciprocity purposes; and appeal documents. The above information will be used to positively identify individuals and determine the eligibility of those individuals for access to DOE facilities in accordance with HSPD-12.

The PIV process involves the following offices/locations: DOE Headquarters; Ames Site Office; Ames Laboratory; Argonne Site Office; Argonne National Laboratory; Berkeley Site Office; Bonneville Power Administration; Brookhaven Site Office; Brookhaven National Laboratory; Carlsbad Field Office; Chicago Office; Environmental Management Consolidated Business Center; Fermi Site Office; Fermi National Accelerator Laboratory; General Atomics; Golden Field Office; Grand Junction Office; Idaho National Laboratory; Lawrence Berkeley National Laboratory; National Energy Technology Laboratory-ARC; National Energy Technology Laboratory-Fairbanks; National Energy Technology Laboratory-Morgantown; National Energy Technology Laboratory-Pittsburgh; National Energy Technology Laboratory-Tulsa; National Renewable Energy Laboratory Area Office; National Nuclear Security Administration Service Center; Oak Ridge Institute of Science and Education; Oak Ridge National Laboratory; Oak Ridge Office; Ohio Field Office; Pacific Northwest Site Office; Pacific Northwest National Laboratory; Portsmouth/Paducah Project Office; Princeton Plasma Physics Laboratory; Princeton Site Office; Richland Operations Office; Savannah River Office; Savannah River Site Office; Southeastern Power Administration; Stanford Linear Accelerator Center; Stanford Site Office; Strategic Petroleum Reserve Project Management Office; Thomas Jefferson National Accelerator Facility; Thomas Jefferson Site Office; Western Area Power Administration.

DOE is submitting the report required by OMB Circular A-130 concurrently with the publication of this notice. The text of this notice contains the information required by the Privacy Act of 1974 [5 U.S.C. 552a(e)(4)].

Issued in Washington, DC on February 28, 2007.
Ingrid A. C. Kolb,
Director, Office of Management.

DOE-63

SYSTEM NAME:

Personal Identity Verification (PIV) Files/

SECURITY CLASSIFICATION:

Unclassified.

SYSTEM LOCATIONS/OFFICES:

U.S. Department of Energy, 1000 Independence Avenue, SW, Washington, DC 20585

U.S. Department of Energy, Ames Site Office, 9800 S. Cass Avenue, Argonne, IL 60439

U.S. Department of Energy, Ames Laboratory, 311 TASF, Ames, IA 50011-3020

U.S. Department of Energy, Argonne Site Office, 9800 S. Cass Avenue, Argonne, IL 60439

U.S. Department of Energy, Argonne National Laboratory, 9700 S. Cass Avenue, Argonne, IL 60439

U.S. Department of Energy, Berkeley Site Office, 1 Cyclotron Road, Berkeley, CA 94720

U.S. Department of Energy, Bonneville Power Administration, P.O. Box 3621, Portland, OR 97208-3621

U.S. Department of Energy, Brookhaven Site Office, 53 Bell Avenue, Building 464, Upton, NY 11973

U.S. Department of Energy, Brookhaven National Laboratory, P.O. Box 5000, Upton, NY 11973-5000

U.S. Department of Energy, Carlsbad Field Office, WIPP Information Center, 4021 National Parks Highway Carlsbad, NM 88221

U.S. Department of Energy, Chicago Operations Office, 9800 South Cass Avenue, Argonne, IL 60439

U.S. Department of Energy, Environmental Management Consolidated Business Center, 250 E. 5th Street, Suite 500, Cincinnati, OH 45202

U.S. Department of Energy, Fermi National Accelerator Laboratory, P.O. Box 500, Batavia, IL 60510-0500

U.S. Department of Energy, Fermi Site Office, P.O. Box 2000, Batavia, IL 60510-0500

U.S. Department of Energy, General Atomics, 3550 General Atomics Court, San Diego, CA 92121

U.S. Department of Energy, Golden Field Office, Mail Stop 1501, 1617 Cole Boulevard, Golden, Colorado 80401

U.S. Department of Energy, Grand Junction Office, 2597 B 3/4 Road, Grand Junction, CO 81503

U.S. Department of Energy, Idaho National Laboratory, PO Box 1625, Idaho Falls, ID 83415

U.S. Department of Energy, Lawrence Berkeley National Laboratory, 1 Cyclotron Road, Berkeley, CA 94720

U.S. Department of Energy, National Energy Technology Laboratory-ARC, 1450 Queen Avenue SW, Albany, OR 97321

U.S. Department of Energy, National Energy Technology Laboratory-Fairbanks, 2175 University Avenue South, Suite 201, Fairbanks, AK 99709

U.S. Department of Energy, National Energy Technology Laboratory-Morgantown, 3610 Collins Ferry Road P.O. Box 880 Morgantown, WV 26507-0880

U.S. Department of Energy, National Energy Technology Laboratory-Pittsburgh, 626 Cochrans Mill Road, P.O. Box 10940, Pittsburgh, PA 15236-0940

U.S. Department of Energy, National Energy Technology Laboratory-Tulsa, One West Third Street, Suite 1400 Tulsa, OK 74103-3519

U.S. Department of Energy, National Nuclear Security Administration Service Center, P.O. Box 5400, Albuquerque, NM 87185-5400

U.S. Department of Energy, National Renewable Energy Laboratory Area Office, 1617 Cole Boulevard, Golden, CO 80401

U.S. Department of Energy, Oak Ridge Institute of Science and Education, 130 Badger Avenue, Oak Ridge, TN 37831

U.S. Department of Energy, Oak Ridge National Laboratory, P.O. Box 2008,Oak Ridge, TN 37831

U.S. Department of Energy, Oak Ridge Office, P.O. Box 2001, Oak Ridge, TN 37831

U.S. Department of Energy, Ohio Field Office, 175 Tri-County Parkway, Springdale, Ohio 45246-3222

U.S. Department of Energy, Pacific Northwest National Laboratory, P.O. Box 999, K1-46, Richland, WA 99352

U.S. Department of Energy, Pacific Northwest Site Office, P.O. Box 350, MS K 8-50, Richland, WA 99354

U.S. Department of Energy, Portsmouth/Paducah Project Office, 1017 Majestic Drive, Suite 200, Lexington, Kentucky 40513

U.S. Department of Energy, Princeton Plasma Physics Laboratory, P.O. Box 451, Princeton, NJ 08543

U.S. Department of Energy, Princeton Site Office, P.O. Box 102, Princeton, NJ 08042

U.S. Department of Energy, Richland Operations Office, P.O. Box 550, Richland, WA 99352

U.S. Department of Energy, Savannah River Operations Office, P.O. Box A, Aiken, SC 29802

U.S. Department of Energy, Savannah River Site Office, P.O. Box A, Aiken, SC 29801

U.S. Department of Energy, Southeastern Power Administration, 1166 Athens TechRoad, Elberton, GA 30635-4578

U.S. Department of Energy, Stanford Linear Accelerator Center, 2575 Sand Hill Road, MS 75, Menlo Park, CA 94025

U.S. Department of Energy, Stanford Site Office, 2575 Sand Hill Road, MS 8-A Menlo Park, CA 94025

U.S. Department of Energy, Strategic Petroleum Reserve Project Management Office, 900 Commerce Road East New Orleans, LA 70123-3401

U.S. Department of Energy, Thomas Jefferson National Accelerator Facility, 12000 Jefferson Avenue, Newport News, VA 23606

U.S. Department of Energy, Thomas Jefferson Site Office, 12000 Jefferson Avenue, Newport News, VA 23606

U.S. Department of Energy, Western Area Power Administration, P.O. Box 281213, Lakewood, CO 80228-8213

CATEGORIES OF INDIVIDUALS COVERED BY THE SYSTEM:

Individuals who have applied for a Department of Energy (DOE) PIV credential under the PIV process.

CATEGORIES OF RECORDS IN THE SYSTEM:

The records maintained in this system of records include all documents submitted during application for the PIV credential or copies of those documents, and any resulting investigative, adjudicative, appeal, or reciprocity documentation. The PIV information contained in the records includes the applicant's name, social security number, date of birth, place of birth, signature, status as Federal or contractor employee or prospective employee, and sponsor's or employer's name, address, and telephone number. The records are the PIV credential request submitted by the applicant's sponsor and may include depending on the applicant's history and actions any of the following: copies of identity source documents; data from source documents used to positively identify the applicant; copies of applicant's photograph; copies of the applicant's background investigation forms [e.g., Standard Form 85 (SF 85), Questionnaire for Non-Sensitive Positions; SF 85P, Questionnaire for Public Trust Positions; SF 86, Questionnaire for National Security Positions; SF 87, Fingerprint Chart; FD-258, Fingerprint Card; Optional Form 306 (OF 306), Declaration for Federal Employment; SF 171, Application for Federal Employment; OF 612, Optional Application for Federal Employment; a resume´ or similar document]; adjudication documents; verification of previous adjudication decision by DOE or another Federal agency; disposition of applicant's PIV processing; correspondence and related documents to and from other Federal agencies for reciprocity purposes; and appeal documents. The above information will be used to positively identify individuals and determine the eligibility of those individuals for access to DOE facilities in accordance with HSPD-12.

Note: Executive Order 10450 Section 9(c) stipulates that reports and other investigative material and information that originated from the background investigation (BI) will remain the property of the investigative agency that conducted the investigation. DOE Privacy Act Officers will forward requests for BI results to the agency that conducted the investigation. The requester will be notified of the referral.

AUTHORITY FOR MAINTENANCE OF THE SYSTEM:

42 U.S.C. 7101 et seq., 50 U.S.C. 2401 et seq., 5 U.S.C. 552a (the Privacy Act of 1974), Homeland Security Presidential Directive 12, “Policy for a Common Identification Standard for Federal Employees Contractors,” August 27, 2004, and Title 5, Code of Federal Regulation, Parts 5 and 736.

PURPOSES:

The records are maintained and used by DOE to determine the eligibility of individuals for a PIV credential that provides access to DOE owned or leased facilities in accordance with HSPD-12.

ROUTINE USES OF RECORDS MAINTAINED IN THE SYSTEM, INCLUDING CATEGORIES OF USERS AND THE PURPOSES OF SUCH USES:

A record from this system may be disclosed as a routine use:

1. For the purpose of an investigation, settlement of claims, or the preparation and conduct of litigation to a (1) person representing DOE in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

2. To the Department of Justice when: (a) DOE or any component thereof; or (b) any employee of DOE in his or her official capacity; or (c) any employee of DOE in his or her individual capacity where DOE or the Department of Justice has agreed to represent the employee; or (d) the Federal Government, is a party to litigation or has an interest in such litigation, and after careful review, DOE determines that the records are both relevant and necessary to the litigation and the use of such records by the Department of Justice is therefore deemed by DOE to be for a purpose compatible with the purpose for which DOE collected the records.

3. To a court or adjudicative body in a proceeding when: (a) DOE or any component thereof; (b) any employee of DOE in his or her official capacity; (c) any employee of DOE in his or her individual capacity where DOE or the Department of Justice has agreed to represent the employee; or (d) the Federal Government is a party to litigation or has an interest in such litigation and, after careful review, DOE determines that the records are both relevant and necessary to the litigation and the use of such records is therefore deemed by DOE to be for a purpose that is compatible with the purpose for which DOE collected the records.

4. To a Federal, State, local, foreign, tribal, or other public authority that the system of records contains information relevant to the retention of an employee, the retention of a security clearance, the letting of a contract, or the issuance or retention of a license, grant, or other benefit. No disclosure will be made unless the information has been determined to be sufficiently reliable to support a referral to another office within DOE or to another Federal agency for criminal, civil, administrative personnel or regulatory action.

5. Except for self-admissions of illegal use of drugs or drug activity on questionnaire Forms SF 85, SF 85P, and SF 86, when a record on its face, or in conjunction with other records, indicates a violation or potential violation of law, whether civil, criminal, or regulatory in nature, and whether arising by general statute or particular program statute, or by regulation, rule, or order issued pursuant thereto, disclosure may be made to the appropriate public authority, whether Federal, foreign, State, local, or tribal, or otherwise, responsible for enforcing, investigating or prosecuting such violation or charged with enforcing or implementing the statute, or rule, regulation, or order issued pursuant thereto, if the information disclosed is relevant to any enforcement, regulatory, investigative or prosecutorial responsibility of the receiving entity.

6. To a member of Congress or to a Congressional staff member in response to an inquiry of the Congressional office made at the written request of the constituent about whom the record is maintained. The member of Congress must provide a copy of the constituent's request for assistance.

7. To DOE contractors in the performance of their contracts, and their officers and employees who have a need for the record in the performance of their duties. Those provided information under this routine use are subject to the same limitations applicable to Department officers and employees under the Privacy Act.

8. To the National Archives and Records Administration for records management inspections under 44 U.S.C. 2904 and 2906.

9. To any source or potential source from which the information is requested in the course of an investigation concerning the retention of an employee or other personnel action (other than hiring), or the retention of a security clearance, contract, grant, license, or other benefit, to the extent necessary to identify the individual, inform the source of the nature and purpose of the investigation, and to identify the type of information requested.

10. To a Federal, State, or local agency, or other appropriate entities or individuals, or through established liaison channels to selected foreign governments, in order to enable an intelligence agency to carry out its responsibilities under the National Security Act of 1947, as amended, the CIA Act of 1949, as amended, Executive Order 12333 or any successor order, applicable national security directives, or classified implementing procedures approved by the Attorney General and promulgated pursuant to such statutes, orders, or directives.

11. To notify another Federal agency, or verify whether, a PIV credential is no longer valid.

POLICIES AND PRACTICES FOR STORING, RETRIEVING, ACCESSING, RETAINING, AND DISPOSING OF RECORDS IN THE SYSTEM:

STORAGE:

Records may be stored as paper files and/or electronic media.

RETRIEVABILITY:

Records may be retrieved by name, Social Security number, or unique PIV file number.

SAFEGUARDS:

Paper records, when not in use, are maintained in a combination-locked cabinet or safe, or in an equally secure area. Electronic records are controlled through established DOE cyber security directives or procedures, and they are password protected. Both paper and electronic records are protected by screening the personnel who have regular access to them and by physically protecting the locations where they are kept. Access to paper or electronic records is limited to those whose official duties require access to the records and who have a need-to-know. Data from the system of records that is personally identifiable information which may be electronically transmitted is protected by encryption.

RETENTION AND DISPOSAL:

Records retention and disposal authorities are in the National Archives and Records Administration (NARA) General Records Schedule and in supplemental DOE record schedules that have been approved by NARA.

SYSTEM MANAGERS AND ADDRESSES:

Headquarters: Director, Office of Security and Safety Performance Assurance, U.S. Department of Energy, SP-1/Forrestal Building, 1000 Independence Avenue, SW., Washington, DC 20585.

Field Offices: The managers of the System Locations listed with their addresses above are the system managers for their respective portions of the system.

NOTIFICATION PROCEDURES:

In accordance with the DOE regulation implementing the Privacy Act at Title 10, Code of Federal Regulations (CFR), Part 1008, a request by an individual to determine if a system of records contains information about him/her should be directed to the Director, Freedom of Information Act and Privacy Act Group, MA-74/Forrestal Building, U.S. Department of Energy, 1000 Independence Avenue, SW., Washington, DC 20585, or to the Privacy Act Officer at the appropriate location identified under System Locations above. For records maintained in the field including, but not limited to, Laboratories, Area Offices, or Site Offices, the request should be directed to the Privacy Act Officer that has jurisdiction over that office or facility. The request should include the requester's complete name, time period for which records are sought, and the office location(s) where the requester believes the records are located.

RECORDS ACCESS PROCEDURES:

Same as Notification Procedures above. Records are generally kept at locations where the work is performed. In accordance with the DOE Privacy Act regulation at 10 CFR1008, proper identification is required before a request is processed.

CONTESTING RECORD PROCEDURES:

Same as Notification Procedures above.

RECORD SOURCE CATEGORIES:

Documents completed or furnished by the applicant; Department of Energy; Office of Personnel Management; Federal Bureau of Investigation; other Federal agencies.

SYSTEM EXEMPTED FROM CERTAIN PROVISIONS OF THE ACT:

None.

[FR Doc. E7-3836 Filed 3-5-07; 8:45 am]

BILLING CODE 6450-01-P